DEPARTMENT OF LABOR

Employment and Training Administration

[TA-W-52,514]

Dynacast, Inc., Yorktown Heights, NY; Notice of Termination of Investigation

Pursuant to section 221 of the Trade Act of 1974, as amended, an investigation was initiated on August 11, 2003, in response to a worker petition filed by a company official on behalf of workers at Dynacast, Inc., Yorktown Heights, New York.

The petitioner has requested that the petition be withdrawn. Consequently, the investigation has been terminated.

Signed at Washington, DC this 29th day of August, 2003.
Elliott S. Kushner,
Certifying Officer, Division of Trade Adjustment Assistance.

[FR Doc. 03-23707 Filed 9-16-03; 8:45 am]

BILLING CODE 4510-30-P